DEPARTMENT OF ENERGY

Federal Energy Regulatory Commission

Combined Notice of Filings #2

August 8, 2005.

Take notice that the Commission received the following electric rate filings:

Docket Numbers: ER00-1250-001.

Applicants: Tacoma Energy Recovery Company.

Description: Tacoma Energy Recovery Company (Tacoma) submits its triennial review updated market power study and revised tariff sheets to include the change in status reporting requirements and its Market Behavior Rules.

Filed Date: 7/29/2005.

Accession Number: 20050804-0024.

Comment Date: 5 p.m. eastern time on Friday, August 19, 2005.

Docket Numbers: ER00-2392-002.

Applicants: Fresno Cogeneration Partners, L.P.

Description: Fresno Cogeneration Partners, L.P. submits its triennial updated market power analysis and revisions to its market-based rate tariff to incorporate the change in status reporting requirements and its Market Behavior Rules.

Filed Date: 7/29/2005.

Accession Number: 20050804-0023.

Comment Date: 5 p.m. eastern time on Friday, August 19, 2005.

Docket Numbers: ER00-2823-001.

Applicants: American Cooperative Services, Inc.

Description: American Cooperative Services, Inc. submits its updated market analysis.

Filed Date: 7/29/2005.

Accession Number: 20050804-0114.

Comment Date: 5 p.m. eastern time on Friday, August 19, 2005.

Docket Numbers: ER00-774-002.

Applicants: Nordic Marketing LLC.

Description: Nordic Marketing, LLC submits its triennial updated market analysis in support of its market-based rate authority and to report that there have not been any changes in status in compliance with the Commission's order issued 5/31/05, 111 FERC 61,295 (2005).

Filed Date: 7/29/2005.

Accession Number: 20050804-0113.

Comment Date: 5 p.m. eastern time on Friday, August 19, 2005.

Docket Numbers: ER01-1836-002.

Applicants: Community Energy, Inc.

Description: Community Energy, Inc. submits its updated market power analysis.

Filed Date: 7/29/2005.

Accession Number: 20050804-0216.

Comment Date: 5 p.m. eastern time on Friday, August 19, 2005.

Docket Numbers: ER01-2690-005.

Applicants: California Electric Marketing, LLC.

Description: California Electric Marketing, LLC submits its revised market-based rate schedule in compliance with the Commission's letter order issued June 29, 2005 in Docket Nos. ER01-2690-002, 003 and 004.

Filed Date: 7/29/2005.

Accession Number: 20050804-0017.

Comment Date: 5 p.m. eastern time on Friday, August 19, 2005.

Docket Numbers: ER02-1118-004.

Applicants: Continental Cooperative Services, Inc.

Description: Continental Cooperative Services, Inc. submits its updated market analysis.

Filed Date: 7/29/2005.

Accession Number: 20050804-0006.

Comment Date: 5 p.m. eastern time on Friday, August 19, 2005.

Docket Numbers: ER02-298-003.

Applicants: Thompson River Co-Gen, LLC.

Description: Thompson River Co-Gen, LLC submits its updated market power analysis.

Filed Date: 7/29/2005.

Accession Number: 20050804-0218.

Comment Date: 5 p.m. eastern time on Friday, August 19, 2005.

Docket Numbers: ER05-1081-002.

Applicants: California Independent System Operator Corporation.

Description: The California Independent System Operator Corporation submits its compliance filing pursuant to the Commission's Order issued 6/29/05, 111 FERC 61,500.

Filed Date: 7/29/2005.

Accession Number: 20050804-0115.

Comment Date: 5 p.m. eastern time on Friday, August 19, 2005.

Docket Numbers: ER05-661-003; ER01-2139-005 and 006.

Applicants: Somerset Windpower LLC.

Description: Somerset Windpower, LLC (Somerset) submits its response to the Commission's deficiency letter issued 7/6/05 regarding Somerset's 2/28/05 filing, as amended on 4/15/05, 4/22/05, 4/29/05 and 6/10/05.

Filed Date: 7/29/2005.

Accession Number: 20050804-0217.

Comment Date: 5 p.m. eastern time on Monday, August 15, 2005.

Docket Numbers: ER91-569-029; ER01-666-005; ER01-1675-003, ER01-1804-004; ER02-862-005.

Applicants: Entergy Services, Inc., Entergy Arkansas, Inc., Entergy Gulf States, Inc., Entergy Louisiana, Inc., Entergy Mississippi, Inc., Entergy New Orleans, Inc., Entergy Power, Inc.; EWO Marketing, L.P.; Entergy Solutions Supply, Ltd; Warren Power, LLC; Entergy Power Ventures, L.P.;

Description: Entergy Services, Inc. on behalf of the above-referenced Entergy affiliates submits notification of a non-material change in status pursuant to the requirements of Order No. 652.

Filed Date: 7/29/2005.

Accession Number: 20050804-0212.

Comment Date: 5 p.m. eastern time on Friday, August 19, 2005.

Docket Numbers: ER95-72-021.

Applicants: Power Exchange Corporation.

Description: Power Exchange Corporation submits an updated market power analysis, notification of various changes in status, and revised tariff sheets to its market-based rate tariff.

Filed Date: 7/29/2005.

Accession Number: 20050804-0007.

Comment Date: 5 p.m. eastern time on Friday, August 19, 2005.

Docket Numbers: ER96-110-016; EL05-4-000.

Applicants: Duke Power, Division of Duke Energy Corp.

Description: Duke Power submits its compliance filing pursuant to the Commission's order issued 6/30/05, 111 FERC 61,506 (2005).

Filed Date: 7/29/2005.

Accession Number: 20050804-0020.

Comment Date: 5 p.m. eastern time on Monday, August 29, 2005.

Docket Numbers: ER96-1947-016.

Applicants: LS Power Marketing LLC.

Description: LS Power Marketing, LLC submits its triennial updated market power analysis and revised tariff sheets to its market-based rate schedule.

Filed Date: 7/29/2005.

Accession Number: 20050804-0008.

Comment Date: 5 p.m. eastern time on Friday, August 29, 2005.

Docket Numbers: ER97-870-013.

Applicants: Sunoco Power Marketing, LLC.

Description: Sunoco Power Marketing, LLC submits an updated power market analysis and revised tariff sheets to its market-based rate tariff.

Filed Date: 7/29/2005.

Accession Number: 20050804-0021.

Comment Date: 5 p.m. eastern time on Friday, August 19, 2005.

Docket Numbers: ER01-138-003.

Applicants: Delta Person Limited Partnership.

Description: Delta Person Limited Partnership submits its Updated Market Analysis, Notice of Change in Status and Request for Termination of section 206 Proceeding.

Filed Date: 7/29/2005.

Accession Number: 20050804-0018.

Comment Date: 5 p.m. eastern time on Friday, August 19, 2005.

Docket Numbers: ER98-4333-002.

Applicants: Primary Power Marketing, L.L.C.

Description: Primary Power Marketing, L.L.C. submits updated market power analysis and revisions to its market based rate tariff.

Filed Date: 7/29/2005.

Accession Number: 20050804-0112.

Comment Date: 5 p.m. eastern time on Friday, August 19, 2005.

Docket Numbers: ER97-420-014.

Applicants: ProLiance Energy, LLC.

Description: ProLiance Energy, LLC submits its triennial market analysis and revised market-based rate schedule.

Filed Date: 7/29/2005.

Accession Number: 20050804-0019.

Comment Date: 5 p.m. eastern time on Friday, August 19, 2005.

Docket Numbers: ER05-1281-000.

Applicants: FPL Energy Duane Arnold, LLC.

Description: FPL Energy Duane Arnold, LLC submits request for authorization to sell energy and capacity at market-based rates.

Filed Date: 7/29/2005.

Accession Number: 20050803-0105.

Comment Date: 5 p.m. eastern time on Friday, August 19, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4370 Filed 8-11-05; 8:45 am]

BILLING CODE 6717-01-P